DEPARTMENT OF TRANSPORTATION

Federal Aviation Administration

14 CFR Part 71

[Docket No. FAA-2023-1835; Airspace Docket No. 23-AEA-10]

RIN 2120-AA66

Establishment and Amendment of United States Area Navigation (RNAV) Routes; Eastern United States

AGENCY: Federal Aviation Administration (FAA), DOT.

ACTION: Final rule.

SUMMARY: This action establishes one United States Area Navigation (RNAV) Q-route, four RNAV T-routes, and amends one RNAV T-route in the eastern United States. This action supports FAA's Next Generation Air Transportation System (NextGen) efforts to provide a modern RNAV route structure to improve the safety and efficiency of the National Airspace System (NAS).

DATES: Effective date 0901 UTC, May 16, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the NAS.

History

The FAA published a NPRM for Docket No. FAA 2023-1835 in the Federal Register (88 FR 68516; October 4, 2023), proposing to establish seven RNAV routes and amend one RNAV route in the eastern United States. Interested parties were invited to participate in this rulemaking effort by submitting written comments on the proposal to the FAA. No comments were received.

Differences From the NPRM

The NPRM published for Docket No. FAA-2023-1835 in the Federal Register (88 FR 68516; October 4, 2023) contained a typographical error in the summary section. The summary section stated that the NPRM was proposing to establish three RNAV Q-routes, five RNAV T-routes, and amend one RNAV T-route. This should have stated that it was proposing to establish three RNAV Q-routes, four RNAV T-routes, and amend one RNAV T-route. Additionally, since publishing the NPRM, the FAA decided to postpone the establishment of RNAV Routes Q-221 and Q-227.

Further, in the NPRM's description of RNAV Routes Q-232, T-335, and T-432, the FAA incorrectly listed the NEION, NJ; HAWLY, PA; and CORTA, PA route points as waypoints (WP). These three route points are identified as a Fix in the National Airspace System Resource (NASR) database and charted as a Fix accordingly. This final rule corrects these errors.

Incorporation by Reference

United States Area Navigation routes (Q-routes) are published in paragraph 2006 and United States Area Navigation (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by establishing one RNAV Q-route, four RNAV T-routes, and amending one RNAV T-route in the eastern United States. This action supports FAA NextGen efforts to provide a modern RNAV route structure to improve the safety and efficiency of the NAS. The amendments are described below.

Q-232: Q-232 is a new RNAV route that extends between the STUBN, NY, WP and the NEION, NJ, Fix. RNAV route Q-232 overlays a portion of Jet Route J-132 between the Elmira, NY (ULW), Very High Frequency Omnidirectional Range/Distance Measuring Equipment (VOR/DME) and the CORDS, PA, Fix, and Jet Route J-223 between the CORDS Fix and the NEION Fix.

T-303: T-303 is a new RNAV route that extends between the Kinston, NC (ISO), VOR/Tactical Air Navigation (VORTAC) and the Boston, MA (BOS), VOR/DME. RNAV route T-303 overlays a portion of VOR Federal Airway V-1 between the Kinston VORTAC and the Boston VOR/DME.

T-307: T-307 is a new RNAV route that extends between the PEARS, NC, Fix and the Syracuse, NY (SYR), VORTAC. RNAV route T-307 overlays a portion of VOR Federal Airway V-139 between the PEARS Fix and the Sea Isle, NJ (SIE), VORTAC; VOR Federal Airway V-166 between the Sea Isle VORTAC and the BRIEF, NJ, Fix; VOR Federal Airway V-184 between the PADRE, PA, Fix and the Philipsburg, PA (PSB), VORTAC; and VOR Federal Airway V-35 between the Philipsburg VORTAC and the Syracuse VORTAC.

T-335: T-335 is a new RNAV route that extends between the ZJAAY, MD, WP and the Syracuse, NY (SYR), VORTAC. RNAV route T-335 overlays VOR Federal Airway V-29 between the ZJAAY WP, which is co-located with the Snow Hill, MD (SWL), VORTAC, and the Syracuse VORTAC.

T-432: T-432 is a new RNAV route that extends between the STUBN, NY, WP and the NEION, NJ, Fix. RNAV route T-432 overlays VOR Federal Airway V-36 between the STUBN WP, which is co-located with the Elmira, NY (ULW), VOR/DME, and the NEION Fix.

T-705: Prior to this final rule, T-705 extended between the DANZI, NY, WP and the MUTNA, NY, WP. The airway segment between the DANZI WP and the CODDI, NY, FIX is removed. Additionally, T-705 is extended to the southeast between the CODDI Fix and the Nantucket, MA (ACK), VOR/DME. As amended, T-705 is changed to now extend between the Nantucket VOR/DME and the MUTNA WP. The amended route segment of T-705 overlays portions of VOR Federal Airway V-46 between the Nantucket VOR/DME and the Calverton, NY (CCC), VOR/DME, and VOR Federal Airway V-44 between the BELTT, NY, Fix and the Pawling, NY (PWL), VOR/DME. The full T-705 route description is listed in the amendments to part 71 as set forth below.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing one RNAV Q-route, four RNAV T-routes, and amending one RNAV T-route in the eastern United States which supports FAA's NextGen efforts, qualifies for categorical exclusion under the National Environmental Policy Act (42 U.S.C. 4321 et seq.) and its implementing regulations at 40 CFR part 1500, and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways). . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2006. United States Area Navigation Routes.

* * * * *

Q-232 STUBN, NY to NEION, NJ [New]
STUBN, NY | WP | (Lat. 42°05′38.58″ N, long. 077°01′28.68″ W)
CORDS, PA | FIX | (Lat. 41°34′11.04″ N, long. 075°08′23.50″ W)
NEION, NJ | FIX | (Lat. 41°13′41.21″ N, long. 074°34′50.78″ W)

* * * * *

Paragraph 6011 United States Area Navigation Routes.

* * * * *

T-303 Kinston, NC (ISO) to Boston, MA (BOS) [New]
Kinston, NC (ISO) | VORTAC | (Lat. 35°22′15.41″ N, long. 077°33′29.94″ W)
KOHLS, NC | WP | (Lat. 36°22′17.76″ N, long. 076°52′21.48″ W)
Norfolk, VA (ORF) | VORTAC | (Lat. 36°53′30.86″ N, long. 076°12′01.18″ W)
OUTLA, VA | WP | (Lat. 37°20′45.48″ N, long. 075°59′54.08″ W)
JAMIE, VA | FIX | (Lat. 37°36′20.58″ N, long. 075°57′48.81″ W)
MAGGO, MD | FIX | (Lat. 37°58′58.48″ N, long. 075°44′01.39″ W)
TRPOD, MD | WP | (Lat. 38°20′20.33″ N, long. 075°32′01.85″ W)
Waterloo, DE (ATR) | VOR/DME | (Lat. 38°48′35.32″ N, long. 075°12′40.76″ W)
LEEAH, NJ | FIX | (Lat. 39°15′39.27″ N, long. 074°57′11.01″ W)
DIXIE, NJ | FIX | (Lat. 40°05′57.72″ N, long. 074°09′52.17″ W)
Kennedy, NY (JFK) | VOR/DME | (Lat. 40°37′58.38″ N, long. 073°46′17.01″ W)
Deer Park, NY (DPK) | VOR/DME | (Lat. 40°47′30.30″ N, long. 073°18′13.17″ W)
Madison, CT (MAD) | VOR/DME | (Lat. 41°18′49.90″ N, long. 072°41′31.93″ W)
Hartford, CT (HFD) | VOR/DME | (Lat. 41°38′27.98″ N, long. 072°32′50.70″ W)
GRAYM, MA | FIX | (Lat. 42°06′04.27″ N, long. 072°01′53.49″ W)
GRIPE, MA | FIX | (Lat. 42°08′08.87″ N, long. 071°54′32.47″ W)
Boston, MA (BOS) | VOR/DME | (Lat. 42°21′26.82″ N, long. 070°59′22.37″ W)

* * * * *

T-307 PEARS, NC to Syracuse, NY (SYR) [New]
PEARS, NC | FIX | (Lat. 35°47′12.36″ N, long. 076°57′01.97″ W)
Norfolk, VA (ORF) | VORTAC | (Lat. 36°53′30.86″ N, long. 076°12′01.18″ W)
OUTLA, VA | WP | (Lat. 37°20′45.48″ N, long. 075°59′54.08″ W)
DUNFE, VA | FIX | (Lat. 37°53′18.83″ N, long. 075°35′29.39″ W)
ZJAAY, MD | WP | (Lat. 38°03′09.95″ N, long. 075°26′34.27″ W)
CBEAV, MD | FIX | (Lat. 38°22′19.01″ N, long. 075°15′53.18″ W)
WNSTN, NJ | WP | (Lat. 39°05′43.81″ N, long. 074°48′01.20″ W)
BRIEF, NJ | FIX | (Lat. 39°26′55.21″ N, long. 075°07′39.69″ W)
TEBEE, NJ | FIX | (Lat. 39°30′13.97″ N, long. 075°19′37.19″ W)
CHAZR, DE | WP | (Lat. 39°29′28.14″ N, long. 075°44′28.13″ W)
APEER, MD | WP | (Lat. 39°37′32.94″ N, long. 075°50′25.39″ W)
REESY, PA | WP | (Lat. 39°45′27.94″ N, long. 075°52′07.09″ W)
PADRE, PA | FIX | (Lat. 39°56′16.67″ N, long. 076°03′18.63″ W)
DELRO, PA | FIX | (Lat. 39°57′55.71″ N, long. 076°37′31.24″ W)
Harrisburg, PA (HAR) | VORTAC | (Lat. 40°18′08.06″ N, long. 077°04′10.41″ W)
PYCAT, PA | FIX | (Lat. 40°26′46.60″ N, long. 077°17′21.35″ W)
MCMAN, PA | FIX | (Lat. 40°38′16.11″ N, long. 077°34′14.31″ W)
RASHE, PA | FIX | (Lat. 40°40′36.04″ N, long. 077°38′38.94″ W)
Philipsburg, PA (PSB) | VORTAC | (Lat. 40°54′58.53″ N, long. 077°59′33.78″ W)
DLMAR, PA | WP | (Lat. 41°41′42.56″ N, long. 077°25′11.02″ W)
STUBN, NY | WP | (Lat. 42°05′38.58″ N, long. 077°01′28.68″ W)
Syracuse, NY (SYR) | VORTAC | (Lat. 43°09′37.87″ N, long. 076°12′16.41″ W)

* * * * *

T-335 ZJAAY, MD to Syracuse, NY (SYR) [New]
ZJAAY, MD | WP | (Lat. 38°03′09.95″ N, long. 075°26′34.27″ W)
TRPOD, MD | WP | (Lat. 38°20′20.33″ N, long. 075°32′01.85″ W)
EZIZI, DE | FIX | (Lat. 38°36′12.96″ N, long. 075°30′38.10″ W)
Smyrna, DE (ENO) | VORTAC | (Lat. 39°13′53.93″ N, long. 075°30′57.49″ W)
Dupont, DE (DQO) | VORTAC | (Lat. 39°40′41.31″ N, long. 075°36′25.51″ W)
MARQI, PA | WP | (Lat. 39°55′22.30″ N, long. 075°32′11.18″ W)
Pottstown, PA (PTW) | VORTAC | (Lat. 40°13′20.04″ N, long. 075°33′36.90″ W)
East Texas, PA (ETX) | VOR/DME | (Lat. 40°34′51.74″ N, long. 075°41′02.51″ W)
WLKES, PA | WP | (Lat. 41°16′22.57″ N, long. 075°41′21.60″ W)
Binghamton, PA (CFB) | VOR/DME | (Lat. 42°09′26.97″ N, long. 076°08′11.30″ W)
CORTA, PA | FIX | (Lat. 42°40′25.65″ N, long. 076°04′34.93″ W)
Syracuse, NY (SYR) | VORTAC | (Lat. 43°09′37.87″ N, long. 076°12′16.41″ W)

* * * * *

T-432 STUBN, NY to NEION, NJ [New]
STUBN, NY | WP | (Lat. 42°05′38.58″ N, long. 077°01′28.68″ W)
BNELE, PA | WP | (Lat. 41°49′06.83″ N, long. 076°03′04.46″ W)
HAWLY, PA | FIX | (Lat. 41°32′23.31″ N, long. 075°05′25.66″ W)
NEION, NJ | FIX | (Lat. 41°13′41.21″ N, long. 074°34′50.78″ W)

* * * * *

T-705 Nantucket, MA (ACK) to MUTNA, NY [Amended]
Nantucket, MA (ACK) | VOR/DME | (Lat. 41°16′54.79″ N, long. 070°01′36.16″ W)
LIBBE, NY | FIX | (Lat. 41°00′15.86″ N, long. 071°21′20.34″ W)
ORCHA, NY | WP | (Lat. 40°54′55.46″ N, long. 072°18′43.64″ W)
Calverton, NY (CCC) | VOR/DME | (Lat. 40°55′46.63″ N, long. 072°47′55.89″ W)
Bridgeport, CT (BDR) | VOR/DME | (Lat. 41°09′38.54″ N, long. 073°07′28.15″ W)
LOVES, CT | FIX | (Lat. 41°32′19.64″ N, long. 073°29′17.14″ W)
PAWLN, NY | FIX | (Lat. 41°46′11.51″ N, long. 073°36′02.64″ W)
CYPER, NY | FIX | (Lat. 42°06′32.37″ N, long. 074°16′25.52″ W)
CODDI, NY | FIX | (Lat. 42°22′52.15″ N, long. 075°00′21.84″ W)
LAMMS, NY | WP | (Lat. 43°01′35.30″ N, long. 075°09′51.50″ W)
SRNAC, NY | WP | (Lat. 44°23′05.00″ N, long. 074°12′16.11″ W)
RIGID, NY | WP | (Lat. 44°35′19.53″ N, long. 073°44′34.07″ W)
PBERG, NY | WP | (Lat. 44°42′06.25″ N, long. 073°31′22.18″ W)
MUTNA, NY | WP | (Lat. 45°00′20.84″ N, long. 073°33′27.65″ W)

* * * * *

Issued in Washington, DC, on February 26, 2024.
Frank Lias,
Manager, Rules and Regulations Group.

[FR Doc. 2024-04332 Filed 2-29-24; 8:45 am]

BILLING CODE 4910-13-P